DEPARTMENT OF AGRICULTURE

Forest Service

Revision of Land Management Plan, Lake Tahoe Basin Management Unit, Located in California and Nevada

AGENCY: Forest Service, USDA.

ACTION: Notice of adjustment to resume the land management plan revision process. Adjustment of Federal Register Notice of Vol. 72, No. 23, p. 5264, Feb. 5, 2007, and transition to the 2008 Planning Rule at 36 CFR 219 [Federal Register Vol. 73, No. 77/April 21, 2008, p. 21468-21511]

Authority: 6 CFR 219.9(a).

SUMMARY: The USDA, Forest Service is resuming preparation of the Lake Tahoe Basin Management Unit revised land management plan (hereafter referred to as the Forest Plan), as directed by the National Forest Management Act (NFMA) . Preparation of the revised plan was halted when the 2005 Forest Service planning rule was enjoined. A new planning rule (36 CFR Part 219 was implemented on April 21, 2008, allowing the planning process to be resumed. This notice resumes the plan revision process under the new planning rule.

The Lake Tahoe Basin Management Unit (LTBMU) Forest Plan Comprehensive Evaluation Report documents the need for change and the initial scope of forest plan revision—based upon management review & determination, February 2007—which is still valid; this documentation provides information concerning public participation and collaboration. The original notice of initiation for plan revision appeared in the Federal Register Feb. 5, 2007. The Responsible Official, Terri Marceron, has determined the LTBMU land management plan revision process is to be adjusted from compliance with the 2005 planning regulations to conform to the 2008 regulations, published: April 21, 2008.

DATES: This notice is effective on June 2, 2008. Comments received following the release of the need for change document (Comprehensive Evaluation Report), February and March 2007, remain valid and will be incorporated into the plan revision, in conjunction with previous Pathway collaboration and future public meeting input and comments received. Future dates for formal comments will be announced once they are determined.

ADDRESSES: Send written comments to: Forest Plan Revision-LTBMU, 35 College Drive, South Lake Tahoe, CA 96150.

E-mail: comments-pacificsouthwest-ltbmu@fs.fed.us.

FOR FURTHER INFORMATION CONTACT: Todd Chaponot at (530) 543-2742 or Robert King at (530) 543-2619; or e-mail the revision team at: comments-pacificsouthwest-ltbmu@fs.fed.us.

SUPPLEMENTARY INFORMATION: Notification of initiation of the plan revision process for the Lake Tahoe Basin Management Unit land management plan was previously provided in the Federal Register on Feb. 5, 2007. The plan revision was initiated under the planning procedures contained in the 2005 Forest Service planning rule (36 CFR 219 (2005)). On March 30, 2007, the federal district court for the Northern District of California enjoined the Forest Service from implementing and using the 2005 planning rule until the agency provided notice and comment, and conducted an assessment of the rule's effects on the environment, completing consultation under the Endangered Species Act. Revision of the Lake Tahoe Basin Management Unit forest plan under the (36 CFR 219 (2005)) rule was suspended in response to the injunction. On April 21, 2008 the Forest Service adopted a new planning rule. This rule (36 CFR 219 (2008)) has been adopted following completion of a national-level environmental impact statement and consultation under the Endangered Species Act. This new planning rule explicitly allows the resumption of plan revisions started under the previous rule (36 CFR 219 (2005)) based on a finding that the revision process conforms to the new planning rule (36 CFR 219.14(b)(3) (ii)).

Prior to the injunction of the 2005 planning rule, the Lake Tahoe Basin Management Unit had issued a Notice of Initiation in the Federal Register (Vol. 72, No. 23, p. 5264, Feb. 5, 2007).

Based on the discussions above, the Responsible Official, Tern Marceron, finds that the planning actions taken by the LTBMU prior to April 21, 2008 conform to the plan revision process initiated under the provisions of the 2005 planning regulation, and for that reason the plan revision process does not need to be restarted. The Lake Tahoe Basin Management Unit is resuming its plan revision process with scheduled public participation activities in the coming months. Specific dates and times of future public participation activities will be sent to local print and broadcast media sources, and will be listed on the LTBMU Web site, at: http://www.fs.fed.us/r5/ltbmu/; details may also be obtained by contacting the LTBMU Supervisor's Office information desk at 530-543-2600.

Authority: 16 U.S.C. 1600-1614; 36 CFR 219.14.

Dated: May 27, 2008.
Terri Marceron,
Forest Supervisor, Lake Tahoe Basin Management Unit.

[FR Doc. E8-12184 Filed 5-30-08; 8:45 am]

BILLING CODE 3410-11-M